DEPARTMENT OF ENERGY

Federal Energy Regulatory Commission

Notice of FERC Staff Participation at MISO-SPP Tariff Convergence Technical Conference

August 20, 2002.

The Federal Energy Regulatory Commission hereby gives notice that on August 27-28, 2002, members of its staff will attend the MISO-SPP tariff convergence technical conference, concerning the development of a common open access transmission tariff for the Midwest Independent Transmission System Operator, Inc. (MISO) and Southwest Power Pool, Inc. (SPP). The staff's attendance is part of the Commission's ongoing outreach efforts. The meeting is sponsored by MISO and SPP, and will be held on August 27-28, 2002, beginning at 9 a.m. on August 27, 2002 at the Renaissance St. Louis Airport, 9801 Natural Bridge Road, St. Louis, MO 63134. This technical conference is open to all interested stakeholders. This technical conference may discuss matters at issue in Docket No. RM01-12-000, Remedying Undue Discrimination Through Open Access Transmission Service and Standard Electricity Market Design, and in Docket No. ER02-1420-000, Midwest Independent Transmission System Operator, Inc.

For more information, contact Mark Volpe, Director of Regulatory Affairs, Midwest Independent Transmission System Operator at (317) 249-5423 or Michael McLaughlin, Director, Division of Tariffs and Rates-Central, Office of Markets, Tariffs and Rates, Federal Energy Regulatory Commission at (202) 502-8436 or michael.mclaughlin@ferc.gov.

Linwood A. Watson, Jr.,
Deputy Secretary.

[FR Doc. 02-21721 Filed 8-26-02; 8:45 am]

BILLING CODE 6717-01-P